CORPORATION FOR NATIONAL AND COMMUNITY SERVICE

Availability of Funds for AmeriCorps*VISTA Tribal Grants and Placements of AmeriCorps*VISTA Members

AGENCY: Corporation for National and Community Service.

ACTION: Notice of availability of funds.

SUMMARY: The Corporation for National and Community Service (hereinafter “the Corporation”) announces the availability of funds for fiscal year 2000 for new AmeriCorps*VISTA (Volunteers in Service to America) program grants and placements focusing on meeting the needs of Indian tribes. The Corporation is soliciting applications from Indian tribes and Native American non-profit organizations to accomplish such grants and placements. Approximately five to seven grants/projects, supporting about 50 AmeriCorps*VISTA members, are expected to be awarded in June, 2000.

DATES: Applications must be received by 5 p.m. May 22, 2000.

ADDRESSES: Background information, including project applications, are available from the Corporation for National and Community Service, AmeriCorps*VISTA, 1201 New York Ave., NW, Washington, DC 20525; (202) 606-5000, ext. 134; TDD (202) 565-2799, or TTY via the Federal Information Relay Service at (800) 877-8339. One signed original and two copies of the application should be submitted to the Corporation for National and Community Service, 1201 New York Avenue, NW, Attn: Cynthia Johnson, Washington, DC 20525. The Corporation will not accept applications that are submitted via facsimile or e-mail transmission. Applications submitted via overnight mail that arrive after the closing date will be accepted if they are postmarked at least two days prior to the closing date. Otherwise, late applications will not be accepted.

FOR FURTHER INFORMATION CONTACT: For further information, contact Cynthia Johnson, at 202-606-5000, ext. 541.

SUPPLEMENTARY INFORMATION:

A. Background

The Corporation is a federal government corporation that encourages Americans of all ages and backgrounds to engage in community-based service. This service addresses the nation's educational, public safety, environmental and other human needs to achieve direct and demonstrable results. In doing so, we strive to foster civic responsibility, strengthen the ties that bind us together as a people, and provide educational opportunity for those who make a substantial commitment to service. We support a range of national service programs, including AmeriCorps, Learn and Serve America, and the National Senior Service Corps.

AmeriCorps*VISTA, a component of AmeriCorps, is authorized under the Domestic Volunteer Service Act of 1973, as amended (Pub. L. 93-113). The statutory mandate of AmeriCorps*VISTA is “to strengthen and supplement efforts to eliminate and alleviate poverty and poverty-related problems in the United States by encouraging and enabling persons from all walks of life, all geographical areas, and all age groups * * * (to) assist in the solution of poverty and poverty-related problems, and * * * to generate the commitment of private sector resources, to encourage volunteer service at the local level, and to strengthen local agencies and organizations to carry out the purpose (of the program).” (42 U.S.C. 4951)

AmeriCorps*VISTA carries out its legislative mandate by assigning individuals 18 years and older, on a full-time, year-long basis, to public and private non-profit organizations whose goals are in accord with AmeriCorps*VISTA's legislative mission. Each AmeriCorps*VISTA project must focus on the mobilization of community resources, the transference of skills to community residents, and the expansion of the capacity of community-based organizations to solve local problems. Programming should encourage permanent, long-term solutions to problems confronting low-income communities rather than short-term approaches for handling emergency needs.

AmeriCorps*VISTA project sponsors must actively elicit the support and/or participation of local public and private sector elements in order to enhance the chances of a project's success as well as to make the activities undertaken by AmeriCorps*VISTA members self-sustaining when the Corporation no longer provides resources.

B. Purpose of This Announcement

The United States has a unique legal relationship with Indian tribal governments as set forth in the Constitution of the United States, treaties, statutes, Executive orders, and court decisions. In treaties, our Nation has guaranteed the right of Indian tribes to self-government. As domestic dependent nations, Indian tribes exercise inherent sovereign powers over their members and territory. The United States continues to work with Indian tribes on a government-to-government basis to address issues concerning Indian tribal self-government, trust resources, and Indian tribal treaty and other rights.

Under the National and Community Service Act of 1990, as amended, American Indian Tribes receive funding directly from the Corporation for National Service through a 1% set-aside of the overall funding for AmeriCorps programs, and a 3% set-aside in Learn and Serve America. There is no set-aside for Indian tribes under the Domestic Volunteer Service Act. Although many AmeriCorps*VISTA members serve in programs in Indian country, this notice provides a unique opportunity to enter into formal arrangements with Indian tribes as sovereign entities and to increase the number of Native Americans serving in AmeriCorps*VISTA.

Proposals are sought that make appropriate use of AmeriCorps*VISTA members to accomplish the goals set forth in authorizing legislation.

In particular, the following proposals are sought under this announcement: (a) Economic development in conjunction with tribal development plans, including welfare to work; (b) literacy, mentoring, and other assistance designed to meet the education needs of young Indians; and (c) efforts to bridge the technology gap among Native American populations.

C. Eligible Applicants

Indian tribes and Native-run non-profit organizations are eligible applicants under this announcement. An Indian tribe is defined as follows: A federally-recognized Indian Tribe, band, nation, or other organized group or community, including any Native village, Regional corporation, or Village Corporation, as defined under the Alaska Native Claims Settlement Act (43 U.S.C. 1602), that the United States Government determines is eligible for special programs and services provided under federal law to Indians because of their status as Indians. Indian Tribes also include any tribal organization controlled, sanctioned, or chartered by one of the entities described above. We will also consider applications from Indian tribes that are state-recognized, or in the process of seeking federal recognition.

A non-profit organization, to be eligible to apply under this announcement, must be recognized and approved by the Indian tribe(s) being served as the entity with authority to carry out the project. Documentation of such recognition and approval must be included in the application.

D. Scope of Grant and Project

It is anticipated that each grant will support between 5-15 AmeriCorps*VISTA members on a full-time basis for one year of service and that each non-grant project approved for placement of members will support between 2-5 members. Technical assistance will be provided by the Corporation in order to enable those tribes selected under this announcement to complete project applications, including detailed budgets.

Each grant will include funds for the grantee to pay: a monthly subsistence allowance for AmeriCorps*VISTA members that is commensurate with the cost-of-living of the assignment area and covers the cost of food, housing, utilities, and incidental expenses; an end-of-service cash stipend payment, accrued at the rate of $100 per month, for those members not selecting the AmeriCorps education award of $4,725; and relocation expenses for those AmeriCorps*VISTA members who must relocate in order to serve. The grant will also include funds for member in-service training, member supervision, and member/supervisor job-related transportation.

Grant applicants should demonstrate their commitment to matching the Federal contribution toward the operation of the AmeriCorps*VISTA program grant by offsetting all, or part of, the costs of member supervision, transportation, and training, as well as the basic costs of the program itself (e.g., space, telephone, etc.). This support can be achieved through cash or in-kind contributions.

Further, grantees are encouraged to share in the costs of the program, including paying for a specified number of AmeriCorps*VISTA positions, to include all costs except for the education award and health care, which will be paid by the Corporation.

Grants will be awarded, and projects approved, on a twelve-month basis with a renewal option subject to need, satisfactory performance, and the availability of Corporation resources.

Some projects may not be awarded a grant but may be approved for the placement of AmeriCorps*VISTA members. These will typically be projects that can benefit from only a few members.

Publication of this announcement does not obligate the Corporation to award any specific number of grants or to obligate the entire amount of funds available, or any part thereof, for grants under the AmeriCorps*VISTA program, or to approve any specific number of non-grant projects for the placement of AmeriCorps*VISTA members.

E. Responsibilities of Grantee

Applicant organizations must have: The existing capacity and experience needed to monitor and support a project; demonstrated strong institutional commitment of personnel, resources, training and technical expertise; and a strong and well-coordinated project rather than loosely tying together several unrelated activities.

After selection, the Corporation State Office will work with the local Indian tribe or non-profit organization to finalize Part A (CNS Form 1421A) (OMB Control Number 3045-0039) of the application, develop Part B (CNS Form 1421B) (OMB Control Number 3045-0038) of the project application, assist in recruiting tribal members to serve as AmeriCorps*VISTA members, and discuss various implementation issues including in-service training and technical assistance for the members. The Corporation State Office also provides training to AmeriCorps*VISTA supervisors through periodic site visits and meetings with supervisors. A Project Progress Report (CNS Form 1433) (OMB Control Number 3045-0043) is submitted to the Corporation State Office on a quarterly basis.

F. Submission Requirements

To be considered for funding, applicants must submit one signed original and two copies, of Part A of the AmeriCorps*VISTA application that contains the material requested in that application, including the following:

1. A one-page narrative summary description, single-spaced, single-sided, of the proposed AmeriCorps*VISTA project including the name, address, telephone number, and contact person for the applicant organization. The summary should include the major objectives and expected outcomes of the project. The summary will be used as a project abstract to provide reviewers with an introduction to the substantive parts of the application. Therefore, care should be taken to produce a summary that accurately and concisely reflects the proposal.

2. A description of the project to be performed, including specific outcomes over the length of the project. These outcomes must be specified over the length of the project, as well as during the first year of the project.

3. A description of the AmeriCorps*VISTA members' assignments, that is, what specifically members will be doing.

4. Current resume of potential AmeriCorps*VISTA supervisor(s), if available, or resume of the director of the applicant organization.

5. Organizational chart illustrating the location of the AmeriCorps*VISTA project within the overall applicant organization.

6. Documentation from organizations and/or individuals that will be collaborating in the overall project effort.

G. Criteria for Project Selection

All of the following elements will be used in judging the applications:

a. Getting Things Done

The proposed project must:

1. Address the needs of low-income communities and otherwise comply with the provisions of the Domestic Volunteer Service Act of 1973, as amended (42 U.S.C. 4951 et seq.) applicable to AmeriCorps*VISTA and all applicable published regulations, guidelines, and Corporation policies.

2. Contain clear and measurable objectives/outcomes in the project application for a 12-month period that address the overall objectives of the initiative. Proposed projects must show how the activities of the AmeriCorps*VISTA members contribute to specific outcomes related to increased opportunity for low-income people. It is expected that outcome objectives will reflect the evolution of the project over the 12-month period.

3. Indicate how the proposed project complements and/or enhances activities already underway in, or planned for, the community(ies) which will be served by the project. To the extent possible, projects should seek out opportunities to collaborate with other Corporation programs, as well as with other community partners, including the business sector.

4. Describe how the number of AmeriCorps*VISTA members requested is appropriate for the project goals/objectives, and how the skills requested are appropriate for the assignment(s).

b. Strengthening Communities

The proposed project must:

1. Describe how the project will develop a sustainable capacity in the local community to effectively support the long-term self-sufficiency of the community. Project services should provide assistance oriented towards long-term solutions.

2. Demonstrate collaboration with organizations which provide supportive services to enhance project outcomes.

3. Be designed to generate public and/or private sector resources, and to promote local, part-time volunteer service at the community level.

4. Describe in measurable terms the anticipated self-sufficiency outcomes at the conclusion of the project, including outcomes related to the sustainability of the project activities.

c. Member Development

The proposed project must:

1. Clearly state how AmeriCorps*VISTA members will be trained, supervised, and supported to ensure the achievement of program goals and objectives as stated in the project work plan.

2. Describe how AmeriCorps*VISTA assignments are designed to utilize the full-time AmeriCorps*VISTA members' time to the maximum extent.

II. Organizational Capacity

The proposed project must:

1. Ensure that resources needed to achieve project goals and objectives are available.

2. Have the management and technical capability to implement the project successfully.

3. Have a track record or experience in dealing with the issues addressed by the proposed project.

4. Have systems for the evaluation and monitoring of project activities. Applicants must describe the methods that will be used to track progress toward the stated objectives, and the procedures that will provide the feedback needed to make adjustments and improve program quality.

III. Budget/Cost-Effectiveness

The proposed project must:

1. Include a budget that adequately supports the program design.

2. Include a budget that adheres to budget guidance provided with the application.

3. Describe how the applicant organization is committing resources necessary for program implementation.

H. Application Review

Proposal Evaluation

To ensure fairness to all applicants, the Corporation reserves the right to take action, up to and including disqualification, in the event that an application fails to comply with any requirements specified in this Notice.

The following weights will be used in judging the elements described above.

1. Program Design (60%) in the following order of importance:

a. Responsiveness to Strengthening Communities Criteria

b. Responsiveness to Getting Things Done Criteria

c. Responsiveness to Member Development Criteria

2. Organizational Capacity (25%).

3. Budget (15%).

I. Geographic Diversity

After evaluating the overall quality of the proposal and its responsiveness to the criteria noted above, the Corporation will take into consideration whether funded projects are in areas of high concentration of low-income residents, including for example those in empowerment zones, and enterprise communities.

J. Technical Assistance

An informal, technical assistance conference call will be scheduled on Monday, April 10, 2000, at 4 p.m. E.S.T. All applicants must pre-register by faxing the names, organization and phone number of up to two members planning to participate. This information should be faxed to Michael Wagner at 202-565-2789. Questions may be submitted in advance of the meeting via fax to the above number.

K. Program Authority

Corporation authority to make these grants and approve projects is authorized under Title I, Part A of the Domestic Volunteer Service Act of 1973, as amended (Pub. L. 93-113).

Dated: March 17, 2000.
Gary Kowalczyk,
Coordinator of National Service Programs, Corporation for National and Community Service.

[FR Doc. 00-7107 Filed 3-21-00; 8:45 am]

BILLING CODE 6050-28-U